DEPARTMENT OF HOMELAND SECURITY

Federal Emergency Management Agency

[Docket ID FEMA-2010-0049]

Recovery Policy RP9525.4, Emergency Medical Care and Medical Evacuations

AGENCY: Federal Emergency Management Agency, DHS.

ACTION: Notice of availability.

SUMMARY: This document provides notice of the availability of the final Recovery Policy RP9525.4, Emergency Medical Care and Medical Evacuations. The Federal Emergency Management Agency (FEMA) published a notice of availability and request for comment for the proposed policy on August 13, 2010 at 75 FR 49507.

DATES: This policy is effective February 3, 2014.

ADDRESSES: This final policy is available online at http://www.regulations.gov and under docket ID FEMA-2010-0049 and on FEMA's Web site at http://www.fema.gov. The proposed and final policy, all related Federal Register Notices, and all public comments received during the comment period are available at http://www.regulations.gov under docket ID FEMA-2010-0049. You may also view a hard copy of the final policy at the Office of Chief Counsel, Federal Emergency Management Agency, Room 8NE, 500 C Street SW., Washington, DC 20472-3100.

FOR FURTHER INFORMATION CONTACT: William Roche, Federal Emergency Management Agency, 500 C Street SW., Washington, DC 20472, 202-646-3834, or via email at William.Roche@fema.dhs.gov.

SUPPLEMENTARY INFORMATION: This final policy identifies the extraordinary emergency medical care expenses that are eligible for reimbursement under the Category B, Emergency Protective Measures provisions of the Public Assistance Program following an emergency or major disaster declaration. This updated policy in section VIII.B(1)(c) adds labor costs for personnel activated and deployed to support the performance of eligible emergency work; in section VIII.B(1)(f) additional language is included to clarify the intent of providing post-disaster vaccinations; labor costs for permanent employees that are activated and deployed to support patient evacuation is an eligible expense in section VIII.C(1)(c); and section VIII.F addresses Mutual Aid and removes reference to public or private nonprofit providers working within their jurisdiction as ineligible mutual aid providers. Section VII.C(2)(c) which stated increased operating costs are ineligible and costs incurred in preparation for an increased patient load from an emergency or disaster are ineligible in section VII.F were removed from the previous version of the policy.

FEMA received three comments on the proposed policy one of which lead to a change to the final policy. The following sentence in Section VIII.F. of the draft policy was removed: “Public or private nonprofit medical service providers working within their jurisdiction do not qualify as mutual aid providers under DAP9523.6”.

This final policy does not have the force or effect of law.

Authority: 42 U.S.C. 5121-5207, and implementing regulations of 44 CFR part 206.

David J. Kaufman,
Associate Administrator, Office of Policy and Program Analysis, Federal Emergency Management Agency.

[FR Doc. 2014-05727 Filed 3-14-14; 8:45 am]

BILLING CODE 9111-23-P